DEPARTMENT OF DEFENSE

Office of the Secretary

[Docket ID DoD-2012-HA-0142]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 28, 2013.

ADDRESSES: You may submit comments, identified by docket number and title, by any of the following methods:

• Federal eRulemaking Portal: http://www.regulations.gov. Follow the instructions for submitting comments.

• Mail: Federal Docket Management System Office, 4800 Mark Center Drive, East Tower, 2nd Floor, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to TRICARE Management Activity (TMA), Portfolio Management Division, ATTN: Karen Saddoris, CDFM-A, Project Officer, 5202 Leesburg Pike, Suite 1100, Falls Church, VA 22041, or call TMA, at (703) 681-8448.

Title; Associated Form; and OMB Number: Military Health Systems DHSS/DHIMS Information Systems User Satisfaction Survey, 0720-TBD.

Needs and Uses: The information collection requirement is necessary to enable the Military Health Systems (MHS) Chief Information Officer (CIO) to employ a standardized approach to gather and report data across 20 to 25 MHS-deployed systems/applications, for both Defense Military Health Systems (DHSS) and Defense Health Information Management Systems (DHIMS) in a repeatable process for continued monitoring of user satisfaction using established quantifiable outcome-based performance measures. Parallel efforts include the need to meet the National Defense Authorization Act (NDAA) requirement imposed by Congress in bill H.R. 6523.

Affected Public: Business or other for profit; Not-for-profit institutions.

Annual Burden Hours: 350.

Number of Respondents: 3,000.

Responses per Respondent: 1.

Average Burden per Response: 7 minutes.

Frequency: Annually.

SUPPLEMENTARY INFORMATION:

Summary of Information Collection

Respondents are staff contracted to the Department of Defense who use any of the approximately 20-25 MHS-deployed systems/applications. These systems/applications are used by the Army, Navy, and Air Force at their respective Command Headquarters, Surgeon's General Office, Bureau of Medicine, Military Treatment Facilities, and at TMA Headquarters. The survey will determine user satisfaction with overall ease of use, access to information needed to perform their job, level of training, system response time when entering or accessing the information, and system availability/minimal downtime. In addition to the quantitative measures, the survey will gather qualitative data to help identify customer “pain points” concerning each system. Final analysis will provide insight to the MHS organization on how best to improve the quality of care through existing health care systems.

Dated: November 26, 2012.
Aaron Siegel,
Alternate OSD Federal Register Liaison Officer, Department of Defense.

[FR Doc. 2012-28860 Filed 11-28-12; 8:45 am]

BILLING CODE 5001-06-P